DEPARTMENT OF COMMERCE

Bureau of Industry and Security

In the Matter of: Dina Zhu, 101 Windsor Chase Drive, Lawrenceville, GA 30043; Order Relating to Dina Zhu

The Bureau of Industry and Security, U.S. Department of Commerce (“BIS”), has notified Dina Zhu, of Lawrenceville, GA (“Zhu”), of its intention to initiate an administrative proceeding against Zhu pursuant to section 766.3 of the Export Administration Regulations (the “Regulations”),¹ through the issuance of a Proposed Charging Letter to Zhu that alleges that Zhu committed one violation of the Regulations.² Specifically:

¹ The Regulations originally issued under the Export Administration Act of 1979, as amended, 50 U.S.C. 4601-4623 (Supp. III 2015) (“the EAA”), which lapsed on August 21, 2001. The President, through Executive Order 13,222 of August 17, 2001 (3 CFR, 2001 Comp. 783 (2002)), which has been extended by successive Presidential Notices, continued the Regulations in full force and effect under the International Emergency Economic Powers Act, 50 U.S.C. 1701, et seq. (2012) (“IEEPA”). On August 13, 2018, the President signed into law the John S. McCain National Defense Authorization Act for Fiscal Year 2019, which includes the Export Control Reform Act of 2018, 50 U.S.C. 4801-4852 (“ECRA”). While section 1766 of ECRA repeals the provisions of the EAA (except for three sections which are inapplicable here), section 1768 of ECRA provides, in pertinent part, that all rules and regulations that were made or issued under the EAA, including as continued in effect pursuant to IEEPA, and were in effect as of ECRA's date of enactment (August 13, 2018), shall continue in effect until modified, superseded, set aside, or revoked through action undertaken pursuant to the authority provided under ECRA.

² The Regulations are currently codified in the Code of Federal Regulations at 15 CFR parts 730-774 (2022). The charged violations occurred in 2018. The Regulations governing the violations at issue are found in the 2018 version of the Code of Federal Regulations (15 CFR parts 730-774). The 2022 Regulations set forth the procedures that apply to this matter.

Charge 1 15 CFR 764.2(c)—Attempted Unlicensed Export to China

On or about November 30, 2018, Zhu engaged in conduct prohibited by the Regulations by attempting to export optical sighting devices, items subject to the Regulations, and valued at approximately $25,000, from the United States to the Peoples Republic of China (“China”), via Hong Kong, without the required Department of Commerce export license. At the time of the attempted export, the items were classified under export control classification (“ECCN”) 0A987 and controlled on Crime Control grounds.³ Pursuant to Section 742.7 of the Regulations, a Department of Commerce export license was required before the items could be exported to Hong Kong or China. OEE was able to interdict this transaction by issuing the courier a re-delivery order to return or unload the shipment pursuant to Section 758.8 of the Regulations.

³ Currently, the items are classified under ECCN 0A504. However, the items are still controlled on Crime Control grounds and would still require an export license to both Hong Kong and China.

During a subsequent December 2018 interview with OEE Special Agents, Zhu admitted to responding to an online ad seeking help in exporting commodities to China. Zhu explained that optical sighting devices would be delivered to her house from U.S. vendors and then she would consolidate the packages and take them to an international courier for export to Hong Kong. According to Zhu, she shipped the packages to Hong Kong and was aware the items would then be forwarded to mainland China.

Zhu was also aware of U.S. government export licensing requirements for optical sighting devices, inter alia, having been notified by U.S. Customs and Border Protection (“CBP”) on or about May 19, 2017, that a shipment of optical sighting devices exported by Zhu was seized by CBP for not having the requisite U.S. Government authorization.⁴

⁴ At that time, the seized items were determined to be controlled on the U.S. Munitions List under Category XII(c)(2)(i). U.S. State Department authorization pursuant to the International Trafficking in Arms Regulation, 22 CFR parts 120-130, was required to export the seized items.

In so doing, Zhu committed one violation of 15 CFR 764.2(c).

Whereas, BIS and Zhu have entered into a Settlement Agreement pursuant to Section 766.18(a) of the Regulations, whereby they agreed to settle this matter in accordance with the terms and conditions set forth therein;

Whereas, Zhu admits committing the alleged conduct described in the Proposed Charging Letter; and

Whereas, I have approved of the terms of such Settlement Agreement;

It is therefore ordered:

First, for a period of one (1) year from the date of the Order, Zhu, with a last known address of 101 Windsor Chase Drive, Lawrenceville, GA 30043, and when acting for or on her behalf, her successors, assigns, representatives, agents, or employees (hereinafter collectively referred to as the “Denied Person”), may not, directly or indirectly, participate in any way in any transaction involving any commodity, software or technology (hereinafter collectively referred to as “item”) exported or to be exported from the United States that is subject to the Regulations, or in any other activity subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Second, no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, any licenses issued under the Regulations in which Zhu has an interest as of the date of this Order shall be revoked by BIS.

Fourth, that, after notice and opportunity for comment as provided in Section 766.23 of the Regulation, any person, firm, corporation, or business organization related to Zhu by affiliation, ownership, control, or position of responsibility in the conduct or trade or related services may also be made subject to the provisions of this Order.

Fifth, as authorized by Section 766.18(c) of the Regulations, the denial period shall be imposed and extended for a second year, but for that second year shall be suspended for a probationary period and shall thereafter be waived, provided that Zhu has not committed another violation of ECRA, the Regulations, or any order, license or authorization issued under ECRA or the Regulations. If Zhu commits another violation of ECRA, the Regulations, or any order, license or authorization issued under ECRA or the Regulations during the two-year period from the date of the Order the suspended portion of the Order may be modified or revoked by BIS pursuant to Section 766.17(c) of the Regulations. If the suspension of the denial is modified or revoked, BIS may extend the active denial period until up to two-years from the date of the Order.

Sixth, the Proposed Charging Letter, the Settlement Agreement, and this Order shall be made available to the public.

Seventh, a copy of this Order shall be provided to Zhu, and shall be published in the Federal Register.

This Order, which constitutes the final agency action in this matter, is effective immediately.

Matthew S. Axelrod,
Assistant Secretary of Commerce for Export Enforcement.

[FR Doc. 2023-23571 Filed 10-24-23; 8:45 am]

BILLING CODE 3510-DT-P